GOVERNMENT PUBLISHING OFFICE

Request for Feedback To Assist the Task Force on a Digital Federal Depository Library Program

AGENCY: U.S. Government Publishing Office.

ACTION: Notice and request for feedback.

SUMMARY: The U.S. Government Publishing Office (GPO) is seeking comments and input from interested parties to assist the Task Force on a Digital Federal Depository Library Program (FDLP). To contribute to the continued evolution of the FDLP, in FY 2021, in response to a recommendation of the Depository Library Council (DLC), GPO Director Hugh N. Halpern established a Task Force to study the feasibility of an all-digital FDLP. The 23-member Task Force has representation from the DLC, Federal depository libraries (FDLs) of different types and sizes, library association representatives, Federal agencies, and GPO. The Task Force has been working throughout 2022-10 investigate whether an all-digital FDLP is possible, and if so, to define the scope of an all-digital depository program and make recommendations as to how to implement and operate such a program. The Task Force's purview included an examination of the current landscape in FDLs, of FDLP-related operations at the GPO, and of the dissemination of publications by Federal agencies. The draft report of the Task Force is now available for public comment at https://www.fdlp.gov/.

DATES: Comments must be received by October 14, 2022.

ADDRESSES: You may submit comments via the comment form available at https://www.fdlp.gov/.

FOR FURTHER INFORMATION CONTACT: Kristene Blake, (202) 262-3397, or FDLPtaskforce@gpo.gov.

Hugh Nathanial Halpern,
Director, U.S. Government Publishing Office.

[FR Doc. 2022-20383 Filed 9-23-22; 8:45 am]

BILLING CODE 1520-01-P